DEPARTMENT OF HEALTH AND HUMAN SERVICES

Centers for Medicare & Medicaid Services

42 CFR Part 410, 482, 483, 485, 488

[CMS-3347-RCN]

RIN 0938-AT36

Medicare and Medicaid Program; Requirements for Long-Term Care Facilities: Regulatory Provisions To Promote Efficiency, and Transparency Final Rule

AGENCY: Centers for Medicare & Medicaid Services (CMS), Department of Health and Human Services (HHS).

ACTION: Extension of timeline.

SUMMARY: The Social Security Act (the Act) specifies that a Medicare final rule must be published no later than 3 years after the publication date of the proposed rule or interim final rule, as applicable, except under exceptional circumstances. In accordance with the Act, this document announces an extension of the timeline for publication of the final rule and includes a brief explanation of the justification for the variation.

DATES: As of July 14, 2022, the timeline for publication of the final rule to finalize the provisions of the proposed rule published on July 18, 2019 (84 FR 34737), is extended until July 18, 2023.

FOR FURTHER INFORMATION CONTACT: Ronisha Blackstone, CMS, (410) 786-6682.

SUPPLEMENTARY INFORMATION: On July 18, 2019, we published a proposed rule in the Federal Register entitled “Medicare and Medicaid Programs; Requirements for Long-Term Care (LTC) Facilities: Provisions to Promote Efficiency and Transparency” (84 FR 34737), which would revise the Medicare and Medicaid long-term care facility requirements that the Centers for Medicare & Medicaid Services had identified as unnecessary, obsolete, or excessively burdensome. This proposed rule aimed to increase the ability of health care professionals to apportion resources to improve resident care by eliminating or reducing requirements that could impede quality care or that divert resources away from providing high quality care.

Section 1871(a)(3)(B) of the Social Security Act (the Act) requires the Secretary of the Department of Health and Human Services (the Secretary) to publish a Medicare final rule no later than 3 years after the publication date of the proposed rule or interim final rule, as applicable, except under exceptional circumstances.

In such circumstances, the Secretary may vary the final rule publication timeline if the Secretary publishes a Federal Register notice of the different timeline, including a brief explanation of the justification for the variation, by no later than the previously established timeline. To meet the 3-year timeline, the final rule would have to be published by July 18, 2022. For the reasons discussed below, we are unable to publish the final rule by July 18, 2022.

Since the beginning of the COVID-19 Public Health Emergency (PHE), we have prioritized our efforts to address the immediate needs relevant to the COVID-19 pandemic by issuing appropriate regulatory changes to increase public health and safety, while taking into consideration ways to create flexibility and minimize unnecessary regulatory burdens. These efforts have required considerable focus and resources, especially to prioritize the publication of interim final rules relevant to the PHE and to provide guidance to health care facilities. In response to the proposed rule, we received over 1,500 timely comments from a variety of stakeholders. The commenters presented robust policy and technical issues for our consideration, which require extensive consultation and analysis. Likewise, we need to re-evaluate the policies and consider the comments provided in light of the current needs of residents, the impact of the COVID-19 PHE on long-term care facilities, and the current priorities of the Department of Health and Human Services related to health and safety and equity.

Therefore, this notice extends the timeline to finalize the provisions in the June 18, 2022 proposed rule for 1 year, until July 18, 2023.

Dated: July 11, 2022.
Wilma Robinson,
Deputy Executive Secretary to the Department, Department of Health and Human Services.

[FR Doc. 2022-15081 Filed 7-13-22; 8:45 am]

BILLING CODE 4120-01-P